ENVIRONMENTAL PROTECTION AGENCY

[EPA-R10-OW-2017-0369; FRL-9281-01-R10]

Good Cause To Extend the Regulatory Time Requirements for Next Steps in 404(c) Review Process, Southwest Alaska

Correction

In notice document 2021-25515 beginning on page 66548 in the issue of Tuesday, November 23, 2021, make the following correction:

On page 66548, in the first column, the subject heading should read as set forth above.

[FR Doc. C1-2021-25515 Filed 12-3-21; 8:45 am]

BILLING CODE 0099-10-D